ENVIRONMENTAL PROTECTION AGENCY

[ER-FRL-6672-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050532, ERP No. D-FRC-G03029-LA, Creole Trail Liquefied National Gas (LNG) Terminal and Pipeline Project, Construction and Operation, Cameron, Calcasieu, Beauregard, Allen, Jefferson, Davis and Acadia Parishes, LA.

Summary: EPA expressed environmental concerns about potential impacts to aquatic resources, and requested additional information regarding contaminant testing and suitability of dredge material for beach nourishment.

Rating EC2.

EIS No. 20050472, ERP No. DA-AFS-J65277-CO, Sheep Flats Diversity Unit, Timber Sales and Related Road Construction, Additional Information Regarding Wildlife Resources, Grand Mesa Uncompahgre and Gunnison National Forests, Grand Valley Ranger District, Mesa County, CO.

Summary: EPA expressed environmental concerns about potential impacts from sedimentation to surface water, the adequacy of the buffer zones and mitigation measures.

Rating EC2.

Final EISs

EIS No. 20050524, ERP No. F-BLM-K08028-CA, Desert Southwest Transmission Line Project, New Substation/Switching Station Construction, Operation and Maintenance, Issuance of Right-of-Way Grant and U.S. Army COE Section 10 and 404 Permits, North Palm Springs and Blythe, CA.

Summary: EPA does not object to the proposed project.

EIS No. 20050547, ERP No. F-AFS-L65472-ID, Paddy Flat Vegetation Project, Harvesting and Regenerate Timber Stands Precommercially Thin Plantations, Rapid, Kennally and Camp Creeks, Payette National Forest, McCall Ranger District, Valley County, ID.

Summary: EPA continues to have environmental concerns about potential impacts to water quality from stream bank erosion and encourages source water mapping and protection if necessary be included as part of the project.

EIS No. 20060009, ERP No. F-NPS-L61228-AK, Denali National Park and Preserve Revised Final Backcountry Management Plan, General Management Plan Amendment, Implementation, AK.

Summary: The final EIS adequately responded to EPA's concerns with potential impacts to water quality, wetlands, permafrost soils and impacts to wildlife from snowmobile use; therefore, EPA does not object the proposed project.

EIS No. 20060018, ERP No. F-COE-G39044-TX, Upper Trinity River Basin Project, To Provide Flood Damage Reduction, Ecosystem Improvement, Recreation and Urban Revitalization, Trinity River, Central City, Fort Worth, Tarrant County, TX.

Summary: EPA does not object to the proposed action.

EIS No. 20060020, ERP No. F-COE-E11055-NC, Fort Bragg Headquarters for XVII Airborne Corps and Army Special Operations Command, To Determine the Level of Training on the Overhills Tract Program, Cumberland and Harnett Counties, NC.

Summary: EPA does not object to the proposed training upgrade.

Dated: February 28, 2006.
Robert W. Hargrove,
Director, NEPA Compliance Division, Office of Federal Activities.

[FR Doc. E6-3079 Filed 3-2-06; 8:45 am]

BILLING CODE 6560-50-P